DEPARTMENT OF LABOR

Employment and Training Administration

[TA-W-58,041]

Foampro Manufacturing, Inc. Including Workers Whose Wages Were Paid by Barrett Business Services, Irvine, CA; Amended Certification Regarding Eligibility To Apply for Worker Adjustment Assistance and Negative Determination Regarding Eligibility To Apply for Alternative Trade Adjustment Assistance

In accordance with section 223 of the Trade Act of 1974 (19 U.S.C. 2273), and section 246 of the Trade Act of 1974 (26 U.S.C. 2813), as amended, the Department of Labor issued a Certification of Eligibility to Apply for Worker Adjustment Assistance and a Negative Determination Regarding Eligibility to Apply for Alternative Trade Adjustment Assistance on November 2, 2005, applicable to workers of FoamPro Manufacturing, Inc., Irvine, California. The notice was published in the Federal Register on November 23, 2005 (70 FR 70883).

At the request of the company, the Department reviewed the certification for workers of the subject firm. The workers are engaged in the production of foam painting tools.

Information provided by the company shows that Barrett Business Services was contracted by FoamPro Manufacturing, Inc. to provide payroll function services to workers on-site at the Irvine, California location of FoamPro Manufacturing, Inc.

Information also shows that all workers separated from employment at the subject firm had their wages reported under a separate unemployment insurance (UI) tax account for Barrett Business Services.

Based on these findings, the Department is amending this certification to include workers whose wages were reported by Barrett Business Services at FoamPro Manufacturing, Inc., Irvine, California.

The intent of the Department's certification is to include all workers of FoamPro Manufacturing, Inc. who were adversely affected by a shift in production of foam painting tools to Mexico.

The amended notice applicable to TA-W-58,041 is hereby issued as follows:

All workers of FoamPro Manufacturing, Inc., including workers whose wages were reported by Barrett Business Services, Irvine, California, who became totally or partially separated from employment on or after September 28, 2004, through November 2, 2007, are eligible to apply for adjustment assistance under section 223 of the Trade Act of 1974.

I further determine that all workers of FoamPro Manufacturing, Inc., including workers whose wages were reported to Barrett Business Services, Irvine, California are denied eligibility to apply for alternative trade adjustment assistance under section 246 of the Trade Act of 1974.

Signed at Washington, DC, this 6th day of December 2005.
Richard Church,
Certifying Officer, Division of Trade Adjustment Assistance.

[FR Doc. E5-7377 Filed 12-14-05; 8:45 am]

BILLING CODE 4510-30-P